LEGAL SERVICES CORPORATION

Notice of Proposed Revisions for the LSC Grant Assurances for Calendar Year 2013 Funding

AGENCY: Legal Services Corporation.

ACTION: Notice of proposed changes and request for comments.

SUMMARY: The Legal Services Corporation (“LSC”) intends to revise the LSC Grant Assurances for calendar year 2013 funding since the last publication of the LSC Grant Assurances for 2012 funding and is soliciting public comment on the proposed changes. The proposed revisions affect Grant Assurances 1, 5, 14(b), 14(c), 19(d), and 21. The revisions clarify existing grant assurances to make the provisions easier to understand. The proposed LSC grant assurances for calendar year 2013 funding, in redline format indicating the proposed changes to the current “LSC 2012 Grant Assurances,” are at http://grants.lsc.gov/sites/default/files/Grants/ReferenceMaterials/2013-Grant-Assurances-Proposed.pdf.

DATES: All comments and recommendations must be received on or before the close of business on June 11, 2012.

ADDRESSES: There are four options for sending comments to LSC: (1) Email comments to LSCGrantAssurances@lsc.gov (this is the preferred option); (2) post comments at http://www.lsc.gov/contact-us; (3) mail comments to: Legal Services Corporation, 3333 K Street NW., Third Floor, Washington, DC 20007, Attention: Reginald Haley; and (4) fax comments to 202.337.6813.

FOR FURTHER INFORMATION CONTACT: Reginald J. Haley; Office of Program Performance; Legal Services Corporation; at haleyr@lsc.gov or (202) 295-1545.

SUPPLEMENTARY INFORMATION: The purpose of the LSC grant assurances is to delineate the rights and responsibilities of LSC and the recipient pursuant to the provisions of the grant. As a grant making agency created by Congress, LSC has grant assurances that are intended to reiterate and/or clarify the responsibilities and obligations already applicable through existing law and regulations and/or obligate the recipient to comply with specific additional requirements in order to effectuate the purposes of the Legal Services Corporation Act, as amended, and other applicable law. A summary of the changes proposed follows.

Grant Assurance #1 notifies LSC recipients of applicable laws, rules, regulations, policies, guidelines, instructions, and other directives of LSC related to the grant. The proposed change to the grant assurance incorporates the full title of the LSC CSR Handbook.

Grant Assurance #5 informs LSC recipients of financial audit requirements and sanctions that may be imposed for failure to have an audit performed in accordance with LSC's Office of Inspector General audit guidance. The proposed change is the replacement of the word “required” with the word “specified,” to make the language more accurate.

Grant Assurance #14(b) requires LSC recipients to inform LSC of a change in the recipient's board chairperson. The proposed change specifies that LSC recipients must provide the name and contact information of the new board chairperson.

Grant Assurance #14(c) requires LSC recipients to inform LSC of a change in the recipient's chief executive officer (CEO). The proposed change specifies that LSC recipients must provide the name and contact information of the new CEO.

Grant Assurance #19(d) notifies LSC recipients of guidelines for planning the orderly conclusion of its role and responsibility as an LSC grantee. The proposed change updates the Web site address used to access the LSC guidelines.

Grant Assurance #21 notifies LSC recipients about the use of the LSC logo. The proposed change updates the Web site address used to access the LSC logo.

The proposed LSC grant assurances for calendar year 2013 funding, in redline format indicating the proposed changes to the current “LSC 2012 Grant Assurances,” are at http://grants.lsc.gov/sites/default/files/Grants/ReferenceMaterials/2013-Grant-Assurances-Proposed.pdf. Interested parties are requested to provide comments concerning the proposed grant assurances for 2013 grant awards within a period of thirty (30) days from the date of publication of this notice.

Dated: May 8, 2012.
Janet LaBella,
Director, Office of Program Performance, Legal Services Corporation.

[FR Doc. 2012-11502 Filed 5-10-12; 8:45 am]

BILLING CODE 7050-01-P